EXPORT-IMPORT BANK OF THE UNITED STATES

Economic Impact Policy

This notice is to inform the public that the Export-Import Bank of the United States has received an application for a $74 million long-term guarantee to support the export of approximately $87 million worth of mining equipment, locomotives and railcars to Canada. The U.S. exports will enable the Canadian mining company to increase production by about 5 million metric tons of iron ore per year during the 8.5-year repayment term of the guarantee. Available information indicates that all of the additional Canadian iron ore production will be sold in China. Interested parties may submit comments on this transaction by email to economic.impact@exim.gov or by mail to 811 Vermont Avenue NW., Room 947, Washington, DC 20571, within 14 days of the date this notice appears in the Federal Register.

Angela Mariana Freyre,
Senior Vice President and General Counsel.

[FR Doc. 2011-32774 Filed 12-21-11; 8:45 am]

BILLING CODE 6690-01-P